ENVIRONMENTAL PROTECTION AGENCY

[FRL-6945-5]

Clean Air Transportation Communities: Innovative Projects to Improve Air Quality and Reduce Greenhouse Gases: Solicitation Notice

AGENCY: Environmental Protection Agency (EPA).

ACTION: Notice.

SUMMARY: Today's Notice announces the availability of funds and solicits proposals from state, local, multi-state, and tribal agencies involved with climate change and transportation/air quality issues, for pilot projects that have a high potential to spur innovations in the reduction of transportation-related emissions and vehicle miles traveled (VMT), at the local level and throughout the United States. EPA is particularly interested in projects that incorporate at least one of the following: smart growth efforts that reduce transportation-related emissions, commuter choice, and cleaner vehicles/green fleets (as described elsewhere in this solicitation). To this purpose, EPA will make available financial assistance ranging from $50,000 up to $300,000 to each recipient, in the form of cooperative agreements. EPA hopes to make at least one award to a qualifying tribal agency, and at least one more award to a qualifying multi-state agency, depending upon the merits of the proposals received.

EPA's Office of Transportation and Air Quality (OTAQ) is committed to reducing emissions from the transportation sector through voluntary efforts to slow the growth of VMT—including encouragement of smart growth in land use policies (that is, in short, development patterns designed to minimize VMT)—and promoting the use of cleaner vehicles and clean, renewable fuels. Many states and localities that are dealing with the problems associated with increased transportation-related emissions and VMT (such as congestion and emissions of greenhouse gases (GHG), criteria pollutants, and airborne toxics) are seeking nonregulatory federal assistance. Voluntary efforts that improve the efficiency of the transportation system within the United States, promote development patterns that reduce the growth in VMT, and expand the availability of environmentally-sensitive transportation alternatives play a critical role in helping communities protect the natural environment, human health, economic vitality, and quality of life.

EPA wishes to provide assistance to tribal, state, local, and multi-state agencies that develop innovative proposals for demonstration projects that will yield measurable reductions in VMT, GHG, and/or criteria air pollutants in a coordinated fashion at the community level. To qualify for funding, the applicant must be a tribal, state, local, and multi-state agency that proposes a demonstration project involving new or experimental methods, technologies, or approaches. So that this competition eventually generates even greater benefits among numerous other stakeholders, EPA also requires that such projects be readily replicable in other states and in local and tribal communities. The cooperative agreements will be allocated by OTAQ through the competitive process described in this notice.

DATES: The deadline for submitting Final Proposals is Tuesday, April 24, 2001 (that is, they must be postmarked by that date). To allow for efficient management of the competitive process, OTAQ is requesting organizations to submit an informal Intent to Apply by Wednesday, March 14, 2001. (Instructions for submitting Intents to Apply and final proposals are found in Section IX. below.) Submission of an Intent to Apply is optional; it is a process management tool that will allow OTAQ to better anticipate the total staff time required for efficient review, evaluation, and selection of submitted proposals.

To ensure that every agency interested in participation has an opportunity to gain any needed additional information useful to the application process, OTAQ has scheduled two sets of conference calls. The first pair of calls is primarily intended to help agencies decide whether this competition is appropriate for them prior to the deadline for submitting an Intent to Apply. The second pair of calls is intended to assist agencies with questions about the proper completion and submission of their proposals. The content of the calls is entirely dependent upon the questions asked. The dates and times of these calls, with the call-in phone numbers and access codes, are:

Tues., March 6, from 3—5 p.m., EST (202-260-2025; access code 6898#)

Weds., March 7, from 2:30—4:30 p.m., EST (202-260-2025; access code 6898#)

Tues., March 27, from 3—5 p.m., EST (202-260-2025; access code 6898#)

Thurs., March 29, from 2—4 p.m., EST (202-260-8330; access code 7731#)

Questions and answers from the conference calls will be summarized and posted as soon as possible on the OTAQ website; the precise web location of the summaries will be announced at “www.epa.gov/otaq/whatsnew.htm”.

In order to ensure that all applicants have access to the same information, the only forums for posing substantive questions on the competition are these conference calls. Except for responses to procedural questions (e.g. due dates, proposal formats), EPA will not provide other assistance prior to final submission of applications.

ADDRESSES: This Notice can also be accessed on the Office of Transportation and Air Quality Web Page at: “www.epa.gov/otaq/”. Click on “What's New” or go directly to “www.epa.gov/otaq/whatsnew.htm”. Addresses for submitting informal Intents to Apply and for submitting final proposals can be found in Section IX., below.

FOR FURTHER INFORMATION CONTACT: Mary Walsh, USEPA Office of Transportation and Air Quality, Transportation and Regional Programs Division, 2000 Traverwood Dr., Ann Arbor, MI 48105. Telephone (734) 214-4205; Fax (734) 214-4052; or email walsh.mary@epa.gov—or—Joann Jackson Stephens, USEPA Office of Transportation and Air Quality, Transportation and Regional Programs Division, 2000 Traverwood Dr., Ann Arbor, MI 48105. Telephone (734) 214-4276; Fax (734) 214-4052; or email jackson-stephens.joann@epa.gov.

SUPPLEMENTARY INFORMATION: Eligible Entities: State, local, multi-state, and tribal agencies actively involved with transportation, air quality, and/or climate change issues. Such entities must be interested in undertaking a project with the purpose of reducing transportation sector emissions through voluntary efforts to decrease VMT and/or transportation-related emissions. Eligible entities must already be engaged in some form of partnership with other entities in the community (e.g., non-governmental organizations, departments of transportation, departments of energy, other state organizations, metropolitan planning organizations, councils of government, planning departments, private companies and business associations, public transit agencies, universities, public health organizations, state-wide or community-based non-profit organizations, and so forth) related to transportation and air quality/climate change issues or some aspect of transportation and/or air quality planning. EPA would like to emphasize that it is very interested in receiving applications from tribal governments, which have historically not have had high representation among the recipients of OTAQ grants. In addition, EPA particularly desires that multi-state organizations apply, in the expectation that their proposals would have a high potential for replication among the members of such organizations.

Title: “Clean Air Transportation Communities: Innovative Projects to Improve Air Quality and Reduce Greenhouse Gases: Solicitation Notice”

Background: EPA's Office of Transportation and Air Quality (OTAQ) recognizes that achieving future reductions in transportation-related emissions will require more attention to limiting VMT, through such means as enhancing transportation system efficiency and the availability of transportation alternatives, promoting smart growth initiatives and brownfield/infill redevelopment, and addressing travel behavior. It is worth mentioning that efforts to reduce VMT also yield an array of other potential benefits, including congestion mitigation, more liveable communities, reduced demand for additional construction of roadways (with the associated social, economic, and environmental consequences), reduced water pollution, waste reduction, and improved quality of life as a result of spending less time (and money) on travel.

Historically, OTAQ (formerly the Office of Mobile Sources) has encouraged the adoption of technological means of reducing criteria pollutants and toxic emissions from vehicles, with great success. Per-mile emissions of gaseous criteria pollutants from new vehicles are already reduced over 90% compared to their predecessors before the era of emission controls. However, as of 1999, 62 million people in the United States still lived in areas that do not meet the health-based National Ambient Air Quality Standards for at least one of six major air pollutants. And Americans are, on average, driving more miles every year.

Moreover, with the growing interest in achieving reductions in GHG emissions, the issue of reducing all types of pollutant emissions is even more problematic. The technological measures that have lead to reductions in a vehicle's tailpipe emissions in the past have done little to reduce GHG emissions. The trend toward decreasing average fuel economy in recent years translates directly into increasing GHG emissions on a per-mile basis. Combined with the steady growth in VMT, this means that, while most criteria pollutant emissions have trended downwards in recent years, GHG emissions have been rising steadily.

EPA, its state counterparts, and local governments are increasingly examining travel choice and smart growth strategies as they affect VMT and transportation-related emissions. In this context, OTAQ is committed to encouraging voluntary efforts as an important part of its approach. Voluntary efforts to improve the efficiency of the U.S. transportation system and expand the availability of environmentally-sensitive transportation alternatives are essential elements in helping communities balance their charges to protect the natural environment, human health, economic vitality, and quality of life. This solicitation advances OTAQ's support of such voluntary efforts.

EPA also recognizes that, despite huge gains in vehicle-related emission reductions over the past two decades, there is still the potential to especially reduce GHG emissions with technology that would improve the fuel economy of vehicles, and perhaps further reduce GHG emissions through the use of alternative fuels.

However, consumers have in the past typically ranked fuel economy relatively low, when compared to other attributes they look for when acquiring a vehicle. Consequently, automobile manufacturers have applied recent technological advances to increased vehicle size, power, and luxury, rather than to improved fuel economy. In order to encourage the market penetration of cleaner, more fuel-efficient vehicles and cleaner renewable fuels, EPA desires to help stakeholders promote and expand the use of advanced vehicle and fuel technologies, as they become available. A comprehensive program which combines improved vehicle choices, reduced emissions, and reduced VMT can provide the information and resources that the pu blic needs to make more informed transportation choices.

EPA recognizes that innovations in reducing VMT and encouraging the use of cleaner vehicles and cleaner, renewable fuels have been implemented across the United States in recent years. It is increasingly clear that the most successful of these have not been one-time, stand-alone efforts, but rather have been conceived to fit into a larger, coordinated strategy for transportation-related emissions reduction over a multi-year scheme. Such programs have typically been those most successful in productively capitalizing on partnerships among different types of organizations sharing a common interest in VMT and/or emission reduction, and in leveraging resources through these partnerships and other funding sources. Therefore, EPA desires to help meet its stakeholders' need for seed money and technical assistance to help them implement more multifaceted approaches to VMT reduction and the promotion of cleaner vehicles and fuels that have a higher potential for long-term success.

Therefore, OTAQ seeks to support up to ten pilot projects through seed funding, ranging from $50,000 to $300,000 per award (depending upon the project), and other assistance. OTAQ intends that the assistance award will help communities identify and launch suites of innovative and practical transportation solutions that both reduce impacts on the environment and enhance mobility and access. Through this Notice, OTAQ seeks proposals for pilot projects in support of voluntary, consensus-supported activities to improve community designs, spur transportation innovations, develop and implement incentives, make more efficient use of transportation systems, promote use of cleaner fuels and vehicles, create effective partnerships, support the measurement of results, and recognize exemplary projects. OTAQ encourages applicants to explore comprehensive approaches that combine VMT reduction, smart growth, cleaner vehicles, and clean renewable fuels, thereby providing enhanced opportunities for emissions reductions. In order to encourage the most successful approaches to accomplish these objectives, OTAQ is seeking proposals that represent strong transportation/air quality partnerships among a broad range of perspectives.

Because this sort of funding is made available from EPA under the authority of section 103(b)(3) of the Clean Air Act, the Agency must assure that a project selected for funding meet two “threshold determinations” for funding; in this context:

• It must address the causes, effects, extent, prevention, reduction, and elimination of air pollution—in short, it will act to control pollution.

• It must consist of such activities as research, investigations, experiments, demonstrations, and similar activities that are within the scope of Section 103(b)(3) of the Clean Air Act. Therefore, the proposals should focus on the learning opportunities they present for future pollution control efforts, rather than on simply addressing pollution problems through well-established methods.

Examples of activities that OTAQ is interested in funding are outlined in Section IV., “Program Emphasis.”

Contents by Section

I. Overview and Deadlines

II. Eligible Organizations

III. Funding Issues

IV. Program Emphasis

V. Selection Criteria

VI. Evaluation and Selection

VII. Proposals

VIII. Other Items of Interest

IX. How to Apply

Clean Air Transportation Communities: Innovative Projects to Improve Air Quality and Reduce Greenhouse Gases: Solicitation Notice

Section I. Overview and Deadlines

A. Overview

In today's notice, OTAQ is soliciting proposals to encourage innovations in improving air quality (with regard to both criteria pollutants and GHG) in the U.S., by reducing VMT, promoting smart growth, and encouraging the use of cleaner vehicles and cleaner, renewable fuels. There are serious environmental implications in relying solely upon the “conventional” approach to transportation—typically, a single driver, in a vehicle that often is not highly fuel-efficient. Clearly, the very limited penetration of traditional alternatives to driving alone (transit, carpooling, and non-motorized modes) into American's travel choices suggests that more integrated and flexible alternatives need to be developed. Ultra-clean, highly fuel-efficient vehicles are beginning to become more available; their use needs to be encouraged. The impact of community design and location on livability and environmental concerns is receiving enhanced visibility with the rise of smart growth initiatives. OTAQ is especially interested in proposals that implement pilot projects allowing the replication of promising practices, methodologies, technologies, incentives, and applications pertinent to these areas. It is looking for the creative, groundbreaking approaches that stakeholders are generating, and wants to see how they actually perform for the lessons that can be gained for future efforts.

Moreover, OTAQ has especially committed in this competition to support community-level efforts that employ a suite of tools for achieving reductions in transportation-related emissions and VMT, to stimulate and reward planning that incorporates individual projects into a coordinated, broader-focus strategy. An example might be a program that integrates a Commuter Choice strategy with the construction of bicycle commuter centers (secure parking, rental, and repair) at transit hubs; or a “Green Fleets”-type program that makes low-emission vehicles and/or vehicles with high fuel economy ratings available for car-sharing, perhaps focusing upon institutions that have a “campus” layout; or a brownfields/infill project that incorporates transit-oriented development programs and practices. Proposals that make an effort to logically integrate various VMT- and emission-reduction program components (both proposed and existing), rather than presenting a piecemeal approach, will receive higher priority.

An important aspect of the evaluation of proposals will be an assessment of their potential effectiveness in bringing these innovations into significant, replicable pilot projects relative to the dollar amount of the grant. Also important in the evaluation will be the degree of innovation, estimated amount of environmental benefit, and apparent resources, capability, and commitment to succeed. Effective leveraging of other sources of available funding will count favorably in the evaluation process. Examples of relevant sources of potential leveraging funds include the Congestion Mitigation and Air Quality (CMAQ) program, the Transportation and Community and Systems Preservation (TCSP) program, the Federal Transit Administration's “New Starts” program (which supports mass transit projects), the U.S. Department of Energy's “Clean Cities” program (which promotes alternative fuel vehicles; see their website at www.ccities.doe.gov), the International Council for Local Environmental Initiatives' “Green Fleets” program (see their website at www.greenfleets.org), or other state and local funding sources (e.g., HOV lane programs). Special attention should be provided to the details of pilot implementation and the mechanisms proposed to enable broad-scale replication. OTAQ also places a high priority on proposals that indicate clearly how they will estimate and count the tons of emissions reduced as a result of their project.

Interested persons can obtain copies of this solicitation at no charge by accessing “What's New?” on the OTAQ Website at “www.epa.gov/otaq” or “www.epa.gov/otaq/whatsnew.htm”.

B. What Are the Deadlines for This Competition?

In order to efficiently manage the selection process, the Office of Transportation and Air Quality requests that an informal “Intent to Apply” within 30 days of the publication of this notice. (Please provide project title or subject and email address). An “Intent to Apply” simply states in the form of e-mail, phone, or fax that your organization intends to submit a proposal to be received by the deadline. Submitting an “Intent to Apply” does not commit an organization to submit a final proposal. The “Intent to Apply” is an optional submission; those not submitting an “Intent to Apply” may still apply by the deadline.

The deadline for submitting completed final proposals (original and six copies, plus one fully-completed Application for Federal Assistance, forms SF 424 and 424A) is Tuesday, April 24. The Office of Transportation and Air Quality expects to complete the Evaluation/Selection process in May, 2001.

Section II. Eligible Organizations

C. Who Is Eligible To Submit Proposals?

While cooperative agreements with federal agencies are available to a range of governmental and non-profit organizations, for the purposes of this solicitation, proposals may only be accepted from state, local, multi-state, or tribal agencies. EPA strongly encourages applicants to incorporate partnerships with a broad range of agencies and organizations. It will give priority to proposals from agencies actively partnering with organizations showing a diversity of perspectives (e.g., environmental justice, community development, land use/smart growth, etc.).

EPA encourages private sector, not-for profit, and public health organizations that provide leadership in meeting national environmental objectives by effecting substantial reductions in vehicle emissions and VMT to enter into a partnership with an eligible entity. To illustrate, some examples of private sector organizations that might seek partnerships with qualifying agencies to make a proposal include (but are not limited to) local homebuilders' associations pursuing smart growth strategies, car insurance companies offering pay-as-you-drive insurance, car rental companies offering low-emission and/or car sharing products, automobile manufacturing companies and dealers offering per-mile car leases or special incentives for cleaner cars and those using clean renewable fuels, and companies with innovative ideas for reducing commuting via the single-occupant vehicle and encouraging infill and mixed-use development. Likewise, eligible agencies are encouraged to seek out partnerships with these sorts of organizations. Note that applicants must ensure that any financial transactions with project partners comply with applicable EPA assistance regulations relating to procurement contracts, subgrants, and allowable costs contained in 40 CFR Part 31 (in the case of state or local agencies and tribes) and 40 CFR Part 30 (in the case of nonprofit multi state organizations).

D. Why Are Tribal and Multi-State Organizations Particularly Encouraged?

OTAQ wishes to particularly encourage the participation of tribal agencies because it desires to improve its communication and coordination with tribal agencies. It would like to increase awareness of opportunities for tribal agencies to access EPA assistance in achieving their air quality goals. Likewise, through substantial involvement in the assisted activity, OTAQ will have an opportunity to gain better understanding of tribal air management issues and strategies, and their context.

Regarding multi-state organizations, OTAQ believes that such entities, which may represent state, local, regional, or tribal organizations themselves, have unique opportunities for the placement, replication, and dissemination of promising approaches to pollution control. OTAQ wishes to encourage such organizations to step up to the challenge of developing and promoting innovative pilot projects for the control of air pollution through cleaner vehicles and fuels and the reduction of VMT.

Section III. Funding Issues

E. What Is the Amount of Available Funding?

Approximately $750,000 is anticipated to be available in fiscal 2001 for this competition.

F. How Many Agreements Will EPA Award in This Competition?

Subject to the availability of funds, EPA plans to fund as many high-quality projects as possible. The Agency may exercise its discretion to fund a mix of large and small projects.

G. Are Matching Funds Required?

No. However, the Agency will consider voluntary financial or in kind commitments of resources as an evaluation factor which maximizes the effective use of EPA seed money.

H. Can Funding Be Used To Acquire Services or Fund Partnerships?

Yes, provided the recipient follows applicable procurement and subgrant procedures. Please note that EPA will not be a party to these transactions and approval of a funding proposal does not relieve recipients of their obligations to compete for service contracts, conduct cost and price analyses, and use subgrants only for financial assistance purposes in accordance with Section .210 of OMB Circular A-133.

Section IV. Program Emphasis

This program is designed to provide seed money for transportation and air quality projects specifically to spur innovations in transportation to reduce VMT and vehicular emissions, and thereby positively impact air quality and/or climate change. EPA is particularly interested in proposals designed to implement pilot projects which yield measurable reductions in VMT, CO2, and/or criteria air pollutants and other GHG, and that promote the replication of promising practices, methodologies, technologies, incentives, and applications. EPA considers that the element of innovation lies not solely in the program components proposed, but in how they fit into a comprehensive strategy.

Innovative approaches of particular interest to OTAQ encourage community design that promotes alternatives to the single-occupant vehicle mode of travel, reduce the need to travel, increase use of higher occupancy modes of travel, and promote low- or non-polluting means of travel. As mentioned above, proposals should show how the project will be part of a coordinated plan for VMT and/or transportation-related emissions reduction. Elements that EPA is especially interested in seeing in proposals include the following (although strong proposals that contain elements other than these will certainly be considered):

• Smart Growth/Development Patterns That Minimize VMT—support state, local, multi-state, and tribal efforts to define best practices, implement effective incentives, and design livable communities that would provide better access to jobs, entertainment, and services while reducing miles driven. (To learn more about EPA's land use guidance and policy, access the web page at www.epa.gov/otaq/traq/traqsusd.htm).

• “Green Fleets”—type program—support adoption of energy conservation and VMT reduction strategies for light-duty fleets and freight distribution systems; e.g., fleets comprised of cleaner (low-emission) vehicles and/or vehicles with higher fuel economy or that utilize cleaner, renewable fuels. (To learn more about the Green Fleets program developed by the International Council for Local Environmental Initiatives, see their website at www.greenfleets.org; “Green Your Fleet” is a downloadable document that gives a basic overview of their program.)

• Commuter Choice—support implementation of employer provided benefits for increased parking cashout, telework, compressed work schedule, carpooling, transit, bus and vanpool ridership, bicycling and pedestrian commuting. (To be considered a Commuter Choice program for the purposes of this solicitation, a project must meet EPA's six conditions for “leaders” described in the Commuter Choice program announcement on its website at: www.epa.gov/otaq/traq/comchoic/ccweb.htm; select the document “Commuter Choice Leadership Initiative.” EPA's commitments to its partners are also described therein.)

• Clean Vehicles—incentives for the purchase by individuals of vehicles designed to emit lower lifetime emissions of GHG and criteria pollutants. (Applicants may wish to review EPA within-class vehicle rankings developed to assist consumers with choosing the cleanest and most fuel efficient vehicle that meets individual needs at: www.epa.gov/autoemissions.)

In addition to the examples of possible program elements mentioned above, an applicant might want to consider such elements as:

• Improvements to “connecting” activities at campus institutions (e.g., hospitals and universities)—initiatives focused upon reducing VMT and/or emissions at organizations having various buildings or facilities located over a limited geographic distance that require transportation, teleconferencing, video conferencing, telecommuting or other “connecting” activities as a major component of conducting business (may address movement within the campus area, movement on/off the campus area, or both). This is a high-priority area for innovation.

• Youth demonstration projects to mobilize the implementation of youth-oriented tools. Examples of previously funded projects that engage youth, especially pre-drivers, in transportation/air quality/climate issues include Let Kids Lead Starter Guide (see the website www.letkidslead.org), Going Places, Making Choices Curriculum (see the website www.fourhcouncil.edu/ycc/gpmc), the Cleaner Cars Module for driver's education, and projects funded through the Mobile Sources Outreach Assistance Competition.

• Real time casual carpool ride matching.

• Pay-as-you-drive car leases.

• Pay-as-you-drive automobile insurance.

• Automobile insurance incentives for driving cleaner vehicles and/or vehicles having higher fuel economy or that utilize cleaner, renewable fuels.

• HOV-lane access for ultra-clean vehicles and/or those having high fuel economy or that utilize cleaner, renewable fuels.

Section V. Selection Criteria

Each eligible proposal (section VIII.R., below, summarizes basic requirements for eligibility) will be evaluated according the criteria set forth below. Proposals which are best able to directly and explicitly address the primary criteria will have a greater likelihood of being selected for award in this assistance competition. Each proposal will be rated according to how well it addresses the criteria. Please note that projects that do not meet the threshold legal criteria for funding under Section 103(b)(3) of the Clean Air Act cannot be considered at all.

I. Primary Criteria

• Problem: States clearly the air quality, climate change, and/or transportation problem the proposal is trying to address in terms of the purpose/focus of this solicitation. Be sure to identify what specific types of emissions reductions are needed, and/or the need to reduce VMT.

• Approach: Demonstrates an innovative strategy to address environmental goals of improved air quality and/or reduced GHG production from the transportation sector through VMT reduction and use of cleaner vehicles and fuels, coordinated as part of a broad context of efforts to achieve these goals; providing a sound basis for encouraging positive transportation behavior change.

• Measurement/Effectiveness: Includes measure of program results; i.e., shows how the project will be evaluated by the applicant in terms of quantifiable reductions in CO2 emissions, and (if targeted in the problem statement) other pollutant emissions and/or VMT, whether by measurement or modeling, and indicates a significant reduction in tons of CO2 (and, if targeted, tons of other emissions and/or reductions in VMT). Note: Regardless of what other benefits are identified, all qualifying proposals must indicate that CO2 emissions will be reduced through implementation of the proposal, and must estimate tons reduced.

• Cost Effectiveness: Demonstrates that proposed transportation/air quality/climate change innovation is cost effective (i.e., indicates a relatively high amount of emissions reduction as compared to amount of the grant), including a prediction of emissions reduction from the pilot in a reasonable scenario.

• Partnering: Demonstrates how it will make use of an existing coalition or collaborative established to address transportation and air quality/climate change issues (indicate partners in this coalition), and describes how the partner(s) can provide a diversity of perspectives—each applicant must delineate how it and its partner(s) will allocate responsibility for the various aspects of the program to be funded. Applicants should make it clear that they—and their partners—have the skills, resources, previous performance, capability, and commitment to make the proposed project fully successful. Applicants must also demonstrate that any transfers of funding to project partners comply with EPA financial assistance regulations.

• Replicability: Demonstrates national or regional applicability (i.e., is designed to have a high potential for being adapted for use elsewhere, and to serve as a resource that will assist others planning similar endeavors; including lessons learned, productive types of contacts/collaborations to make, “roadmap” of the process, etc.).

J. Other Factors to be Considered

• Integration/leveraging of funding: Maximizes the effective use of EPA's limited funding through integration with existing programs: this may include coordination with other OTAQ-funded efforts and activities, linkages with other funding programs, such as those mentioned in Section I.A. (“Overview”), or financial or in-kind contributions from non-federal sources.

• Budget: Exhibits clearly-stated and appropriate levels of funding; indicating where funds are allocated to provide for interested parties to get information on the project, including costs for materials reproduction.

• Action-orientation. Must be capable of generating reductions in CO, and, if targeted, other pollutants and/or VMT, as a direct result of the pilot program.

• Reasonable time frames. Timetables must reflect a realistic appreciation of the time required to properly conduct the indicated activity.

• Past Performance. The applicant's experience with effectively administering Federal financial assistance and successfully carrying out projects supported by EPA and other Federal agencies will be carefully considered. This may include the results of audits conducted by EPA's Office of Inspector General, other Federal agencies, or State, local or tribal oversight entities. Applicants are strongly encouraged to discuss their performance history and to provide the names of contacts for EPA to obtain additional information.

Note: OTAQ places a high priority on proposals that clearly show how they will count the tons of emissions saved as a result of their implementation, and on those involving partnerships with entities that provide wide range of perspectives on the issue, contributing a broader vision and wider skill mix to the effort. Applicants should show clearly how the approach to reducing VMT and tons of emissions addresses the problem identified without posing other emissions concerns. For example, a vehicle type being promoted for low CO2 emissions in the context of GHG reduction should not result in even more significant increases in emissions of methane, an even more potent GHG.

Moreover, every applicant should understand that EPA will consider the ramifications that the proposal may generate, and it wishes to ascertain whether each proposal shows consistency with EPA's broader mission beyond the realm of transportation-related emissions. That is, the proposed project should, for example, present no cross-media concerns, and should respect environmental justice considerations.

Section VI. Evaluation and Selection

K. How does the evaluation process work?

The EPA Evaluation Team will be chosen in such a way that it can address a full range of transportation/air quality/climate change matters. Each EPA Regional office will be given the opportunity to review those proposals generated by eligible organizations within that Region. The Evaluation Team will base its evaluation solely on the criteria referenced in this Notice. Completed evaluations will be referred to a Selection Committee representing OTAQ staff and senior managers and Regional representatives who are responsible for further consideration and final selection. Selected proposals will be submitted to EPA's grants office for final approval for award. Applicants will be notified promptly after this process concerning their proposal's status.

Section VII. Proposals

L. What must be included in the proposal?

The proposal must contain a narrative, letters of commitment from partners, and EPA's federal assistance application forms (“Application for Federal Assistance and Budget Information,” SF 424 and SF 424A). (Please do not use binders or spiral binding for your submission.) The narrative, which should be approximately 7-8 pages in length, must explicitly address how the proposal meets each of the evaluation criteria. Again, in the course of describing how it meets the criteria, the narrative must include:

(1) A concise statement of the nature of the problem, project background, and objectives;

(2) A detailed project summary—description of specific actions to be undertaken, and the responsible organizations, including estimated time line for each task;

(3) The associated work products to be developed;

(4) An explanation of project benefits;

(5) An explanation of how project outcomes will be designed for replication in other communities;

(6) A detailed budget—clearly explain how funds will be used, including estimated cost for each task, and funds set aside for resources to promote replication;

(7) A detailed explanation of how the project shall be evaluated;

(8) The projected time frame for project from initiation through completion;

(9) Project contact(s) (must provide name, organization, phone, fax, and e-mail), and;

(10) A description of the roles of the applicant and partners.

Special attention should be provided to the details of pilot implementation and the mechanisms proposed to enable broad-scale replication of its innovations. This includes access to tools and information for interested parties seeking to replicate as appropriate and build upon the project's outcomes. This includes materials generated through the project, contact information, keys/barriers to success, a narrative or “roadmap” of the process, etc.

In addition to the narrative, the proposal should include a letter of commitment from each partner organization that briefly summarizes its roles and goals in the partnership. Again, please keep in mind that any contracts or subgrants awarded to partner organizations must comply with applicable regulations.

EPA financial assistance procedures require that the official and complete federal assistance application forms (“Application for Federal Assistance and Budget Information,” SF 424 and SF 424A) be submitted by all applicants with their proposals. For those in need of guidance in filling out these forms, an Application Kit for Federal Assistance (which includes the forms) can be obtained from EPA's Grants Administration Division at (202) 564-5305. These forms can also be downloaded from the following website: www.whitehouse.gov/omb/grants/#forms.

VIII. Other Items of Interest

M. Does this funding expire at the end of Fiscal Year 2001? Will two-year projects be considered?

Funding does not expire at the end of Fiscal Year 2001. If a proposal with a two-year project period is submitted, OTAQ simply requires that the budget and cost estimate be designed to indicate what will be accomplished in each of the first and second years. However, the total amount of the grant does not change if the project period extends to two years.

N. May an eligible organization submit more than one proposal?

Yes. However, more than one proposal may be submitted only if the proposals are for different projects.

O. May an eligible organization submit a proposal for this fiscal year, even if the organization were previously awarded funding under another program?

Yes. Applicants awarded funding in previous competitions may submit new proposals to fund a different project. As mentioned previously, this program is designed to provide seed money to initiate new projects, or to add new dimensions to existing projects (e.g., new focus on youth, additional locations, innovative approaches, different constituencies). Awards will not be given to extend or supplement an ongoing program if the proposal adds nothing that is new in some significant way.

P. May an eligible organization resubmit a proposal which was previously submitted to another competition for funding, but was not selected?

Yes. However, those proposals will be measured against the evaluation criteria described above.

Q. What is the difference between this solicitation and the Mobile Source Outreach Assistance Competition? Can I apply to both?

These are two distinct competitions, though offered in fiscal year 2001 at approximately the same time. While they may share some goals, such as providing assistance to stakeholders wishing to implement innovative programs that reduce mobile source related emissions, they differ in important ways. While the Mobile Source Outreach Assistance Competition was originated with the expressed purpose of promoting outreach in the mobile source emissions arena, the scope of eligible projects is broader under this solicitation. However, this solicitation limits eligible applicants to state, local, tribal, and multi-state agencies involved with transportation, air quality, and/or climate change issues. Moreover, this competition requires that the applicant demonstrate how CO2 and, depending upon the problem identified, other emissions and/or VMT will be reduced, and an estimate of those reductions in VMT/tons of emissions through implementation. The demonstration and estimate are not required for the Mobile Source Outreach Assistance Competition.

Applicants to this competition may submit a proposal that includes a component that was submitted to the Mobile Source Outreach Assistance Competition. However, due to the differing nature of the requirements, it is unlikely that an exact duplication of a proposal submitted to one would be suitable to be submitted to the other.

R. What will cause a proposal to be considered ineligible or non-responsive to this solicitation?

A proposal will be determined to be ineligible if :

• It is not submitted by a state, local, tribal, or multi-state agency involved with transportation, air quality, or climate change issues, or;

• It does not satisfy the requirements for funding authorized under section 103 of the Clean Air Act (described in the “Background” section, above).

A proposal will be considered non responsive if:

• It does not address each criterion and each component outlined in Section VII.L., above, or;

• It lacks the completed forms “Application for Federal Assistance and Budget Information,” SF 424 and SF 424A, or;

• If hard copies of the proposal are received or postmarked by the U.S. Postal Service after the deadline.

S. Will Letters of Recommendation or Commendation Help a Proposal During its Evaluation?

No. Letters of recommendation or commendation will not be considered. However, letters from partners expressing their commitment to the proposed project will strengthen an application's standing; those documenting successful performance on Federal assistance projects will be given greater weight than letters which express only general support for the applicant.

Section IX. How To Apply

T. How Does One Apply?

Intents to Apply may take the form of email, fax or phone call to the Program Contact, Mary E. Walsh (address listed below; phone: (734) 214-4205; fax: (734) 214-4052; e-mail: walsh.mary@epa.gov. Include organization, contact, phone number, and project title/subject. Please submit informal Intents to Apply by Wednesday, March 14, 2001. (Remember, the Intent to Apply is not required and will have no bearing on the judging process, but we do request it for the benefit of our planning process.) Submission of an Intent to Apply or a final proposal does not guarantee funding.

Completed application packages must be postmarked or received via regular mail or express mail on or before midnight, Tuesday, April 24, 2001 (please provide original proposal + six copies—no binders or spiral binding, please!—plus one completed set of forms SF 424 and SF 424A, “Application for Federal Assistance and Budget Information”), addressed to: Mary E. Walsh (TRPD), US EPA Office Transportation and Air Quality, 2000 Traverwood Dr., Ann Arbor, MI 48105.

Deadline For Completed Final Proposals

Proposals must be received or postmarked no later than midnight on April 24, 2001.

Dated: February 9, 2001.
Margo Tsirigotis Oge,
Director, Office of Transportation and Air Quality, Environmental Protection Agency.

[FR Doc. 01-4268 Filed 2-20-01; 8:45 am]

BILLING CODE 6560-50-U